DEPARTMENT OF JUSTICE

Notice of Lodging of Consent Decree Under the Clean Water Act and the Comprehensive Environmental Response, Compensation, and Liability Act

In accordance with Departmental policy and 28 CFR 50.7, the Department of Justice gives notice that a proposed Consent Decree with Crown EG, Inc. (“Crown”) in the case captioned United States and the State of Indiana v. Guide Corporation and Crown EG, Inc., Civil Action No. IP00-0702-C-Y/F (S.D. Ind.) was lodged with the United States District Court for the Southern District of Indiana on March 1, 2004. The proposed Consent Decree relates to a massive fish kill that occurred in the White River in December 1999 and January 2000, from the City of Anderson, Indiana downstream past the City of Indianapolis, Indiana. The Defendants—Guide Corporation and Crown—are alleged to have discharged industrial wastewater that caused the fish kill. A separate Consent Decree with Guide Corporation was finalized in September 2001.

The proposed Consent Decree would resolve civil claims of the United States and the State of Indiana against Crown under: (1) The Clean Water Act (the “CWA”), 33 U.S.C. 1251 et seq., and corresponding state law; (2) the natural resource damage provisions of section 107 of the Comprehensive Environmental Response, Compensation, and Liability Act (“CERCLA”), 42 U.S.C. 9607, CWA section 311(f), and corresponding State law; (3) the response cost recovery provisions of CERCLA section 107 and corresponding state law; and (4) state common law. To the extent provided by the proposed Consent Decree, certain specified benefits of the settlement would also extend to two Crown shareholders.

In the near future, Crown will be required to pay $250,000 into a Court Registry Account administered by United States District Court for the Southern District of Indiana. If the proposed Consent Decree is approved and entered by the Court, that $250,000 would be paid into a “White River Restoration Fund” established by the State, to fund fish restocking and river restoration projects.

The Department of Justice will receive comments relating to the Consent Decree for a period of thirty (30) days from the date of this publication. Comments should be addressed to the Assistant Attorney General, Environment and Natural Resources Division, P.O. Box 7611, U.S. Department of Justice, Washington, DC 20044-7611, and should refer to United States and the State of Indiana v. Guide Corporation and Crown EG, Inc., Civil Action No. IP-00-0702-C-Y/F (E.D. Wis.) and D.J. Ref. 90-5-2-1-07043.

The Consent Decree may be examined at: (1) The Offices of the United States Attorney, 10 West Market Street, Suite 2100, Indianapolis, Indiana; and (2) the offices of EPA Region 5, 77 West Jackson Boulevard, 14th Floor, Chicago, Illinois. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.25 (49 pages at 25 cents per page reproduction cost) payable to the U.S. Treasury.

William D. Brighton,
Assistant Chief, Environmental Enforcement Section, Environment and Natural Resources Division.

[FR Doc. 04-6060 Filed 3-17-04; 8:45 am]

BILLING CODE 4410-15-M